CONSUMER PRODUCT SAFETY COMMISSION

16 CFR Chapter II

Acceptance of ASTM F963-11 as a Mandatory Consumer Product Safety Standard

AGENCY: Consumer Product Safety Commission.

ACTION: Acceptance of standard.

SUMMARY: The Consumer Product Safety Commission (“CPSC,” Commission,” or “we”) is announcing that we have accepted the revised ASTM F963-11 standard titled, Standard Consumer Safety Specifications for Toy Safety. Pursuant to section 106 of the Consumer Product Safety Improvement Act of 2008, ASTM F963-11 will become a mandatory consumer product safety standard effective June 12, 2012.

DATES: ASTM F963-11 will become effective on June 12, 2012.

FOR FURTHER INFORMATION CONTACT: Jonathan Midgett, Ph.D., Office of Hazard Identification and Reduction, U.S. Consumer Product Safety Commission, 4330 East West Highway, Suite 600, Bethesda, MD 20814; telephone (301) 504-7692; email jmidgett@cpsc.gov.

SUPPLEMENTARY INFORMATION:

On February 10, 2009, section 106(a) of the Consumer Product Safety Improvement Act of 2008, (CPSIA), Public Law 110-314, made the provisions of ASTM F963-07, Standard Consumer Safety Specifications for Toy Safety (except for section 4.2 and Annex 4 or any provision that restates or incorporates an existing mandatory standard or ban promulgated by the Commission or by statute) mandatory consumer product safety standards under section 9 of the Consumer Product Safety Act (CPSA). On May 13, 2009, the Commission accepted ASTM International (formerly the American Society for Testing and Materials) (ASTM) proposed revisions to the standard, by accepting ASTM F963-08 (except for the removal of section 4.27 of ASTM F963-07, which covers toy chests). The requirements of ASTM F963-08 became effective on August 16, 2009, except for section 4.27 (toy chests) of ASTM F963-07, which was already in effect.

On December 15, 2011, ASTM officially proposed revisions to the existing standard for Commission consideration, by submitting ASTM F963-11, Standard Consumer Safety Specifications for Toy Safety. ASTM proposes replacing ASTM F963-08 with the revised ASTM F963-11 version. Section 106(g) of the CPSIA provides that, upon ASTM notifying the Commission of proposed revisions to ASTM F963, the Commission must incorporate the revisions into the consumer product safety rule, unless within 90 days of receiving the notice, the Commission notifies ASTM that it has determined that the proposed revisions do not improve the safety of the consumer product(s) covered by the standard. If the Commission so notifies ASTM regarding a proposed revision of the standard, the existing standard remains in effect, regardless of the proposed revision. If the Commission does not object to the proposed revisions, the revised standard becomes effective 180 days after the date that ASTM notifies the Commission of the revision.

The Commission has determined that the proposed revisions in ASTM F963-11 improve the safety of the consumer products covered by the standard. Therefore, although the CPSIA does not require us to issue a notice in the Federal Register announcing our decision, we are, through this notice, announcing that the CPSC accepts the revisions as mandatory consumer product safety standards. ASTM F963-11 will become effective as a mandatory consumer product safety standard on June 12, 2012. However, because ASTM F963-11 does not reincorporate section 4.27 (toy chests) of ASTM F963-07, that provision from ASTM F963-07 regarding toy chests remains in effect.

Dated: February 15, 2012.
Todd A. Stevenson,
Secretary, Consumer Product Safety Commission.

[FR Doc. 2012-3990 Filed 2-21-12; 8:45 am]

BILLING CODE 6355-01-P